DEPARTMENT OF ENERGY

Federal Energy Regulatory Commission

[Project No. 12551-008]

Salvatore & Michelle Shifrin; Mansfield Hollow Hydro, LLC; Notice of Transfer of Exemption

1. By letter filed November 26, 2014, and supplemented on July 23, 2015, Mansfield Hollow Hydro, LLC (Mansfield Hydro) informed the Commission that the exemption from licensing for the Mansfield Hollow Hydroelectric Project No. 12551, had been transferred to Mansfield Hydro.¹ The project is located on the Natchaug River in Tolland County, Connecticut.

¹ O'Connell Energy Group made the filing on behalf of Mansfield Hydro, which is owned by O'Connell Development Group, Inc.

2. The exemption was originally issued to Salvatore and Michelle Shifrin (Shifrins) on June 17, 2009.² The November 26, 2014 letter gave notice that the Shifrins had leased the right to operate the project to Mansfield Hydro. The July 23, 2015 filing contained a copy of the lease showing that all project lands and facilities were also leased to Mansfield Hydro, with exception of the five 100-kilowatt turbines, which Mansfield Hydro owns.

² 127 FERC ¶ 62,216, Order Granting Exemption From Licensing (5 MW or Less) (2009).

3. The transfer of an exemption does not require Commission approval. Thus, the Shifrins' lease of project properties and operating rights to Mansfield Hydro effectively transferred the exemption to Mansfield Hydro.

4. Mansfield Hydro is the exemptee of the Mansfield Hollow Hydroelectric Project No. 12551. The exemptee's contact is: Stephen Fisk, General Manager, Mansfield Hollow Hydro, LLC, c/o O'Connell Energy Group, 57 Suffolk Street, Suite 200, Holyoke, MA 01040.

Dated: September 25, 2015.
Nathaniel J. Davis, Sr.,
Deputy Secretary.

[FR Doc. 2015-25010 Filed 10-1-15; 8:45 am]

BILLING CODE 6717-01-P